DEPARTMENT OF THE INTERIOR

National Park Service

[NPS-IMR-SACR-13960; PX.PD108787G.00.1]

Environmental Assessment for the General Management Plan for Sand Creek Massacre National Historic Site, Colorado

AGENCY: National Park Service, Interior.

ACTION: Notice of intent.

SUMMARY: The National Park Service has determined that an Environmental Assessment, rather than an Environmental Impact Statement, is the appropriate environmental documentation for the general management plan for Sand Creek Massacre National Historic Site. This determination is the result of evaluating public comments and considering the analysis required to adequately address environmental impacts in developing the General Management Plan.

FOR FURTHER INFORMATION CONTACT: Alexa Roberts, Superintendent, Sand Creek Massacre National Historic Site, P.O. Box 249, Eads, CO 81036. Telephone (719) 438-5916.

ADDRESSES: More information about the project can be obtained from the contact listed above or online at http://parkplanning.nps.gov/sand.

SUPPLEMENTARY INFORMATION: This general management plan will establish the overall direction for the national historic site, setting broad management goals for managing the area over the next 15 to 20 years. The General Management Plan was originally scoped as an Environmental Impact Statement. However, internal discussions and meetings, and comments received in written correspondence and public scoping sessions held in Colorado, Montana, Oklahoma, and Wyoming in 2008 and again in 2011 did not raise any concerns or issues that have the potential for controversial impacts. Most of the comments received in response to the preliminary alternatives newsletter agreed that the range of alternatives being considered is appropriate and did not identify any substantive issues or concerns.

The planning team has developed six alternatives (no-action and five action alternatives), none of which would result in substantial changes in the operation and management of the national historic site. The five action alternatives primarily focus on maintaining and protecting cultural and natural resources, and expanding interpretation and visitor opportunities where appropriate. Preliminary analysis of the alternatives revealed no major (significant) effects on the human environment or impairment of park resources and values.

For these reasons the National Park Service determined that the requisite conservation planning and environmental impact analysis necessary for updating the general management plan can appropriately be completed through preparation of an EA.

This draft general management plan/EA is expected to be distributed for public comment in the fall 2014. The National Park Service will notify the public about release of the draft general management plan/EA by public meetings, mail, local and regional media, Web site postings, and other means; all announcements will include information on where and how to obtain a copy of the EA, how to comment on the EA, and the length of the public comment period. Following due consideration of public comments and agency consults, at this time a decision is expected to be made in the winter 2014. The official responsible for the final decision on the GMP is the Regional Director; subsequently the responsible official for implementing the approved GMP is the Superintendent, Sand Creek Massacre National Historic Site.

Dated: October 1, 2014.
Sue E. Masica,
Regional Director, Intermountain Region, National Park Service.

[FR Doc. 2014-24045 Filed 10-9-14; 8:45 am]

BILLING CODE 4312-CB-P